DEPARTMENT OF TRANSPORTATION

National Highway Traffic Safety Administration

[Docket No. NHTSA-2011-0138]

Reports, Forms, and Recordkeeping Requirements

AGENCY: National Highway Traffic Safety Administration (NHTSA), Department of Transportation.

ACTION: Emergency Federal Register Notice.

SUMMARY: In compliance with the Paperwork Reduction Act of 1995 (44 U.S.C. 3501 et seq.), this notice announces that the Information Collection Request (ICR) abstracted below has been forwarded to the Office of Management and Budget (OMB) requesting emergency processing for review and comment. The ICR describes the nature of the information collection and its expected burden. OMB approval has been requested by October 31, 2011.

DATES: Comments must be received on or before October 24, 2011.

ADDRESSES: Send comments, within 30 days, to the Office of Information and Regulatory Affairs, Office of Management and Budget, 725-17th Street, NW., Washington, DC 20503, Attention: NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A Comment to OMB is most effective if OMB receives it within 30 days of publication.

FOR FURTHER INFORMATION CONTACT: Kil-Jae Hong, NHTSA, 1200 New Jersey Avenue SE., W52-232, NPO-520, Washington, DC 20590. Ms. Hong's telephone number is (202) 493-0524 and e-mail address is kil-jae.hong@dot.gov.

Docket: For access to the docket to read background documents, go to http://www.regulations.gov, or the street address listed above. Follow the online instructions for accessing the dockets.

SUPPLEMENTARY INFORMATION:

In compliance with the Paperwork Reduction Act of 1995, NHTSA conducted Phase 1 of the Consumer Research, which included Focus Groups and Tire Retailer Interviews. Based upon the Phase 1 research results, NHTSA developed the materials for Phase 2 of the Consumer Research plan. This notice announces that the ICR for Phase 2 consumer research, abstracted below, has been forwarded to OMB requesting emergency processing for review and comment. The ICR describes the nature of the information collection and its expected burden. This is a request for new collection.

Title: 49 CFR 575.106—Consumer Information Regulations—Tire Fuel Efficiency Quantitative Research—Online Survey.

OMB Control Number: Not Assigned.

Form Number: None.

Type of Request: New collection.

Affected Public: Passenger vehicle tire consumers.

Requested Expiration Date of Approval: Three years from approval date.

Abstract: The Energy Independence and Security Act of 2007 (EISA), enacted in December 2007, included a requirement that NHTSA develop a national tire fuel efficiency program to educate consumers about the effect of tires on automobile fuel efficiency, safety and durability. A critical step in developing the consumer information program is to conduct proper market research to understand consumers' knowledge of tire maintenance and performance, understand the tire purchase process from both the consumer and retailer's perspectives, evaluate comprehension of ratings, explore the clarity, meaningfulness and the likely resulting behaviors, and evaluate the informational and educational materials and the channels for communication. NHTSA proposed a dual-phased research project to gather the data and apply analyses and results from the project to develop the consumer information program. Phase 1 has been completed and the final reports from this phase have been posted to this docket. The Phase 2 research plan, resulting from Phase 1 data and analyses, is posted to this docket.

Estimated Annual Burden: 1,300 hours.

Number of Respondents: 5,200.

NHTSA completed qualitative research that included two phases—focus groups and retailer interviews. The reports from each of those phases informed the questions that are included in this quantitative research phase. NHTSA will conduct this research via an online survey that will be administered once. The online survey will take approximately 15 minutes for respondents to complete and will require 4,000 general population participants and up to an additional 1,200 respondents for the tire purchaser oversample. The total burden hours for this survey is 1,300 hours (5,200 participants × 15 min).

The estimated annual burden hour for the online survey is 1,300 hours. Based on the Bureau of Labor and Statistics' median hourly wage (all occupations) in the May 2010 National Occupational Employment and Wage Estimates, NHTSA estimates that it would cost an average of $16.27 per hour if all respondents were interviewed on the job. Therefore, the agency estimates that the cost associated with the burden hours is $21,151 ($16.27 per hour × 1,300 interviewing hours).

Issued on: September 16, 2011.
Gregory A. Walter,
Senior Associate Administrator, Policy and Operations.

[FR Doc. 2011-24310 Filed 9-21-11; 8:45 am]

BILLING CODE 4910-59-P